DEPARTMENT OF HOMELAND SECURITY

Coast Guard

33 CFR Parts 100 and 165

[Docket No. USCG-2011-0551]

Special Local Regulation and Safety Zone; America's Cup Sailing Events, San Francisco, CA

AGENCY: Coast Guard, DHS.

ACTION: Notice of availability.

SUMMARY: The Coast Guard announces the availability of the 2012 program calendar for the on-water activities associated with the “2012 America's Cup World Series” regatta scheduled for August 21-26, 2012, on the waters of San Francisco Bay adjacent to the City of San Francisco waterfront in the vicinity of the Golden Gate Bridge and Alcatraz Island.

DATES: This notice of availability is effective on August 3, 2012.

ADDRESSES: Documents indicated in this preamble as being available in the docket are part of docket USCG-2011-0551 and are available online by going to http://www.regulations.gov, inserting USCG-2011-0551 in the “Keyword” box, and then clicking “Search.” They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this notice, call or email Lieutenant DeCarol Davis, Coast Guard Sector San Francisco, U.S. Coast Guard; telephone (415) 399-7443, email DeCarol.A.Davis@uscg.mil. If you have questions on viewing or submitting material to the docket, call Renee V. Wright, Program Manager, Docket Operations, telephone (202) 366-9826.

SUPPLEMENTARY INFORMATION:

Background and Purpose

The Coast Guard established a special local regulation and a safety zone for the sailing regattas being conducted on the waters of San Francisco Bay associated with the 34th America's Cup sailing events taking place adjacent to the City of San Francisco waterfront in the vicinity of the Golden Gate Bridge and Alcatraz Island. The special local regulation and safety zone regulate the on-water activities associated with the “2012 America's Cup World Series” regatta scheduled for August 21-26, 2012, and will temporarily restrict vessel traffic in a portion of the San Francisco Bay, prohibit vessels not participating in the America's Cup sailing events from entering the designated race area, and create a temporary safety zone around racing vessels (77 FR 41902, July 17, 2012).

This notice announces the availability of the 2012 program calendar referenced in the rulemaking published in association with the “2012 America's Cup World Series” regattas. This program calendar is available in the docket, as indicated in the ADDRESSES section, and includes the dates and times that event programming is expected to occur.

The Coast Guard may enforce the special local regulation and safety zone as early as noon on any program day. In general, however, the Coast Guard anticipates beginning enforcement approximately one hour before the first scheduled event on each program day, and ending enforcement as soon as possible after the last event on each program day. The Coast Guard will use a Broadcast Notice to Mariners to indicate when the zone is being enforced and when enforcement has ended and normal vessel operations may occur.

This notice is issued under the authority of 5 U.S.C. 552(a) and 33 CFR 1.05-1.

Dated: July 16, 2012.
Jay W. Jewess,
Captain, U.S. Coast Guard, Acting Captain of the Port San Francisco.

[FR Doc. 2012-18840 Filed 8-2-12; 8:45 am]

BILLING CODE 9110-04-P